LEGAL SERVICES CORPORATION

Notice of Availability of Calendar Year 2003 Competitive Grant Funds

AGENCY: Legal Services Corporation.

ACTION: Solicitation for Proposals for the Provision of Civil Legal Services.

SUMMARY: The Legal Services Corporation (LSC) is the national organization charged with administering federal funds provided for civil legal services to low income people.

LSC hereby announces the availability of competitive grant funds and is soliciting grant proposals from interested parties who are qualified to provide effective, efficient and high quality civil legal services to eligible clients in the states and territories, by service area(s) identified below. The exact amount of congressionally appropriated funds and the date, terms and conditions of their availability for calendar year 2003 have not been determined.

DATES: See Supplementary Information section for grants competition dates.

ADDRESSES: Legal Services Corporation—Competitive Grants, 750 First Street NE., 10th Floor, Washington, DC 20002-4250.

FOR FURTHER INFORMATION CONTACT: Office of Program Performance by FAX at (202)336-7272, by e-mail at competition@lsc.gov, or visit the LSC Web site at www.ain.lsc.gov.

SUPPLEMENTARY INFORMATION: The Request for Proposals (RFP) will be available April 26, 2002. Applicants must file a Notice of Intent to Compete (NIC) to participate in the competitive grants process.

Applicants competing for service areas in Alaska, California, Connecticut, Delaware, District of Columbia, Guam, Hawaii, Idaho, Iowa, Kansas, Louisiana, Maine, Maryland, Micronesia, Minnesota, Missouri, Nebraska, Nevada, New Hampshire, North Dakota, Ohio, Oklahoma, Oregon, Puerto Rico, Rhode Island, South Dakota, Utah, Vermont, Virgin Islands, Virginia, and Washington must file the NIC by May 24, 2002, 5 p.m. ET. The due date for filing grant proposals for service areas in these states is June 24, 2002, 5 p.m. ET.

LSC will publish competed service areas for Michigan and New Jersey in June 2002. Applicants competing for service areas in these states are required to file the NIC by July 12, 2002, 5 p.m. ET. The due date for filing grant proposals for services areas in Michigan and New Jersey is August 9, 2002, 5 p.m. ET.

LSC is seeking proposals from: (1) Non-profit organizations that have as a purpose the furnishing of legal assistance to eligible clients; (2) private attorneys; (3) groups of private attorneys or law firms; (4) State or local governments; and (5) substate regional planning and coordination agencies which are composed of substate areas and whose governing boards are controlled by locally elected officials.

The RFP, containing the grant application, guidelines, proposal content requirements and specific selection criteria, will be available from the LSC Web site at www.ain.lsc.gov. LSC will not FAX the RFP to interested parties.

Below are the service areas for which LSC is requesting grant proposals. Service area descriptions are available from Appendix A of the RFP. The RFP will be available April 26, 2002, at www.ain.lsc.gov. Interested parties are asked to visit www.ain.lsc.gov regularly for updates on the LSC competitive grants process.

State | Service area
Alaska | AK-1, NAK-1.
California | CA-12, CA-14.
Connecticut | CT-1, NCT-1.
Delaware | DE-1, MDE.
Dist. of Columbia | DC-1.
Guam | GU-1.
Hawaii | HI-1, MHI, NHI-1.
Idaho | ID-1, MID, NID-1.
Iowa | IA-3, MIA.
Kansas | KS-1, MKS.
Louisiana | LA-1, LA-4, LA-8.
Maine | ME-1 MMX-1, NME-1.
Maryland | MD-1, MMD.
Michigan | Competed service areas in Michigan will be published in June 2002.
Micronesia | MP-1.
Minnesota | MN-1, MN-2, MN-3, MN-4, MN-5, MMN, NMN-1.
Missouri | MO-3, MO-4, MO-5, MO-7, MMO.
Nebraska | NE-4, MNE, NNE-1.
Nevada | NV-1, MNV, NNV-1.
New Hampshire | NH-1.
New Jersey | Competed service areas in New Jersey will be published in June 2002.
North Dakota ** | ND-3, MND, NND-3.
Ohio | OH-5, OH-17, OH-18, OH-19, OH-20, OH-21, OH-22, MOH.
Oklahoma | NOK-1.
Oregon | OR-2, OR-4, OR-5, MOR, NOR-1.
Puerto Rico | PR-1, PR-2, MPR.
Rhode Island | RI-1.
South Dakota | SD-2, SD-4, MSD, NSD-1.
Utah | UT-1, MUT, NUT-1.
Vermont | VT-1.
Virgin Islands | VI-1.
Virginia | VA-15, VA-16.
Washington | WA-1, MWA, NWA-1.
** Service areas ND-3 and NND-3 in North Dakota will be awarded to a single grantee. Applicants must apply for both service areas.

Dated: April 16, 2002.
Victor Fortuno,
Vice-President for Legal Affairs, Legal Services Corporation.

[FR Doc. 02-9798 Filed 4-19-02; 8:45 am]

BILLING CODE 7050-01-P